DEPARTMENT OF COMMERCE

International Trade Administration

[C-533-876]

Fine Denier Polyester Staple Fiber From India: Final Results of Countervailing Duty Administrative Review; 2017-2018

AGENCY: Enforcement and Compliance, International Trade Administration, Department of Commerce.

SUMMARY: The Department of Commerce (Commerce) determines that Reliance Industries Limited (Reliance) received countervailable subsidies that are above de minimis during the period of review, November 6, 2017 through December 31, 2018.

DATES: Applicable December 30, 2020.

FOR FURTHER INFORMATION CONTACT: Ariela Garvett, AD/CVD Operations, Office IV, Enforcement and Compliance, International Trade Administration, U.S. Department of Commerce, 1401 Constitution Avenue NW, Washington, DC 20230; telephone: (202) 482-3609.

SUPPLEMENTARY INFORMATION:

Background

On April 3, 2020, Commerce published the Preliminary Results of this review.¹ On April 24, 2020, Commerce tolled all deadlines in administrative reviews by 50 days.² On July 21, 2020, Commerce tolled all deadlines in administrative reviews by an additional 60 days,³ thereby extending the deadline for these final results until November 19, 2020. On November 5, 2020, Commerce postponed the final results of this review by 33 days until December 22, 2020.⁴

¹ See Fine Denier Polyester Staple Fiber from the Republic of India: Preliminary Results of Countervailing Duty Administrative Review, 85 FR 18916 (April 3, 2020) (Preliminary Results), and accompanying Preliminary Decision Memorandum (PDM).

² See Memorandum, “Tolling of Deadlines for Antidumping and Countervailing Duty Administrative Reviews in Response to Operational Adjustments Due to COVID-19,” dated April 24, 2020.

³ See Memorandum, “Tolling of Deadlines for Antidumping and Countervailing Duty Administrative Reviews,” dated July 21, 2020.

⁴ See Memorandum, “2017-2018 Countervailing Duty Administrative Review of Fine Denier Polyester Staple Fiber from India: Extension of Deadline for Final Results,” dated November 5, 2020.

Scope of the Order

The merchandise covered by this order is fine denier polyester staple fiber (fine denier PSF). For a complete description of the scope of this order, see the Issues and Decision Memorandum.

Analysis of Comments Received

All issues raised in the interested parties' case and rebuttal briefs are addressed in the Issues and Decision Memorandum. A summary of the events that occurred since Commerce published the Preliminary Results, as well as a full discussion of the issues raised by parties for these final results, are discussed in the Issues and Decision Memorandum.⁵ The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at http://enforcement.trade.gov/frn/. The signed and electronic versions of the Issues and Decision Memorandum are identical in content. A list of the issues raised by interested parties and responded to by Commerce in the Issues and Decision Memorandum, is provided in the Appendix to this notice.

⁵ See Memorandum, “Issues and Decision Memorandum for the Final Results in the 2017-2018 Countervailing Duty Administrative Review of Fine Denier Polyester Staple Fiber from India,” dated concurrently, and hereby adopted by, this notice (Issues and Decision Memorandum).

Methodology

Commerce conducted this administrative review in accordance with section 751(a)(1)(A) of the Tariff Act of 1930, as amended (the Act). For each of the subsidy programs found countervailable, we find that there is a subsidy, i.e., a government-provided financial contribution that gives rise to a benefit to the recipient, and that the subsidy is specific.⁶

⁶ See sections 771(5)(B) and (D) of the Act regarding financial contribution; section 771(5)(E) of the Act regarding benefit; and section 771(5)(A) of the Act regarding specificity.

For a description of the methodology underlying Commerce's conclusions, see the Issues and Decision Memorandum.

Changes Since the Preliminary Results

Based on our analysis of the comments received from interested parties and record information, we made certain changes to the net subsidy rate calculated for Reliance. For a discussion of these changes, see the Issues and Decision Memorandum.

Final Results of the Administrative Review

In accordance with section 751(a)(1) of the Act and 19 CFR 351.221(B)(5), we find the net countervailable subsidy rate for the period November 6, 2017 through December 31, 2018 to be as follows:

Company | Subsidy rate (percent ad valorem)
Reliance Industries Limited | 4.44

Assessment and Cash Deposit Requirements

In accordance with 19 CFR 351.212(b)(2), Commerce intends to issue assessment instructions to U.S. Customs and Border Protection (CBP) 15 days after the date of publication of these final results to liquidate shipments of subject merchandise. We will instruct CBP to liquidate shipments of subject merchandise produced and/or exported by Reliance entered, or withdrawn from warehouse, for consumption on or after November 6, 2017 through December 31, 2018, at the ad valorem assessment rate listed above for Reliance.

In accordance with section 751(a)(2)(C) of the Act, we intend also to instruct CBP to collect cash deposits of estimated countervailing duties in the amounts shown above on shipments of subject merchandise entered, or withdrawn from warehouse, for consumption on or after the date of publication of the final results of this review. For all non-reviewed firms, Commerce will instruct CBP to continue to collect cash deposits of estimated countervailing duties at the most recent company-specific or all-others rate applicable to the company, as appropriate. These cash deposit rates, when imposed, shall remain in effect until further notice.

Disclosure

Commerce intends to disclose the calculations and analysis performed for these final results to interested parties within five days of the date of publication of this notice in the Federal Register.⁷

⁷ See 19 CFR 351.224(b).

Administrative Protective Order

This notice also serves as a final reminder to parties subject to an administrative protective order (APO) of their responsibility concerning the disposition of proprietary information disclosed under APO in accordance with 19 CFR 315.305(A)(3). Timely written notification of the return/destruction of APO materials or conversion to judicial protective order is hereby requested. Failure to comply with the regulations and the terms of an APO is a sanctionable violation.

Notification to Interested Parties

These final results are issued and published in accordance with sections 751(a)(1) and 777(i)(1) of the Act and 19 CFR 351.221(b)(5).

Dated: December 21, 2020.
Jeffrey I. Kessler,
Assistant Secretary for Enforcement and Compliance.

Appendix—List of Topics Discussed in the Issues and Decision Memorandum

I. Summary

II. Background

III. Scope of the Order

IV. Use of Facts Otherwise Available and Application of Adverse Inferences

V. Subsidies Valuation Information

VI. Analysis of Programs

VII. Discussion of the Issues

Comment 1: Sales Value Denominators

Comment 2: Whether To Apply Adverse Facts Available (AFA) To Export Sales Values

Comment 3: Discount Rates

Comment 4: Calculation of Duty Exemptions Under the Special Economic Zone (SEZ) Duty-Free Importation of Capital Goods and Raw Materials, Components, Consumables, Intermediates, Spare Parts, and Packing Materials Program and Export Promotion of Capital Goods Scheme (EPCGS)

Comment 5: Application of AFA to the SEZ Duty-Free Importation of Capital Goods and Raw Materials, Components, Consumables, Intermediates, Spare Parts, and Packing Materials Program and EPCGS

Comment 6: Land Benchmark

Comment 7: Whether the SEZ Programs, Technology Upgradation Fund Scheme (TUFS), and Merchandise Export From India Scheme (MEIS) Are Countervailable

VIII. Recommendation

[FR Doc. 2020-28789 Filed 12-29-20; 8:45 am]

BILLING CODE 3510-DS-P